DEPARTMENT OF HEALTH AND HUMAN SERVICES

National Institutes of Health

Prospective Grant of Start-Up Exclusive Evaluation Option License Agreement: Pre-Clinical Evaluation and Commercial Development of Anti-Tyrosine Kinase-Like Orphan Receptor 1 Antibody-Drug Conjugates for the Treatment of Human Cancers

Correction

In notice document 2015-06486 appearing on pages 15226-15227 in the issue of Monday, March 23, 2015 make the following correction:

On page 15226, in the third column, under the DATES heading, in the last line, “April 6, 2015” should read “April 7, 2015”.

[FR Doc. C1-2015-06486 Filed 3-31-15; 8:45 am]

BILLING CODE 1505-01-P